DEPARTMENT OF TRANSPORTATION

Office of the Secretary

Notice of Applications for Certificates of Public Convenience and Necessity and Foreign Air Carrier Permits Filed Under Subpart B (Formerly Subpart Q) During the Week Ending August 14, 2010

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2010-0215.

Date Filed: August 13, 2010.

Due Date for Answers, Conforming Applications, or Motion to Modify Scope: September 3, 2010.

Description: Application of National Air Cargo Group, Inc. d/b/a National Airlines requesting it's certificate of public convenience and necessity is amended to include authority for foreign charter air transportation of persons, property and mail.

Renee V. Wright,
Program Manager, Docket Operations, Federal Register Liaison.

[FR Doc. 2010-21943 Filed 9-1-10; 8:45 am]

BILLING CODE 4910-9X-P